DEPARTMENT OF JUSTICE

Notice of Lodging of Proposed Consent Decree Under the Comprehensive Environmental Response, Compensation, and Liability Act

On October 3, 2022, the Department of Justice lodged a proposed Consent Decree with the United States District Court for the Northern District of Ohio in the lawsuit entitled United States v. Dover Chemical Corporation, Civil Action No. 5:17-cv-02335. The proposed decree resolves state and federal allegations under section 107 of the Comprehensive Environmental Response, Compensation, and Liability Act of natural resource damages, or NRD, associated with the Dover Chemical Corporation Superfund Site, or Site, and the surrounding NRD assessment area. The proposed decree is related to a 2017 complaint and a resulting 2018 consent decree that implemented the final Superfund remedial work at the Site, and expressly reserved the right of the United States to pursue compensation for NRD. Simultaneous with the lodging of the proposed consent decree, the trustees have published a Draft Restoration Plan/Environmental Assessment that informs the public about the proposed NRD restoration and protection projects included in the negotiated settlement.

The United States Fish and Wildlife Service and the Ohio Environmental Protection Agency, or Ohio EPA, are joint trustees for the biological and surface water resources impacted by contamination at the Site, while Ohio EPA is the trustee for the ground water resource. The trustees began an NRD assessment in 2009 that identified injuries to the surface water, biological resources, and ground water resources in the assessment area caused by hazardous substances.

Under the proposed decree, Dover Chemical Corporation agrees to implement projects that will restore and protect 28.5 acres of wetlands in Stark County and protect 195 acres of riparian habitat in Tuscarawas, Jefferson, Columbiana, and/or Belmont counties. Dover Chemical Corporation will also pay $880,000 to Ohio to fund projects near the Site to protect, restore, or enhance state ground water resources. Finally, Dover Chemical Corporation will pay for costs incurred by Ohio and the United States to assess injuries to natural resources associated with the Site.

The publication of this notice opens a period for public comment on the proposed consent decree. Comments should be addressed to the Assistant Attorney General, Environment and Natural Resources Division, and should refer to United States v. Dover Chemical Corporation, D.J. Ref. No. 90-11-3-11517/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $27.75 (25 cents per page reproduction cost) payable to the United States Treasury. For a paper copy without the exhibits and signature pages, the cost is $11.25.

The Fish and Wildlife Service and the Ohio EPA are seeking concurrent public comment on the Draft Restoration Plan/Environmental Assessment, or Draft RP/EA. The Draft RP/EA informs the public about the proposed NRD restoration and protection projects included in the negotiated settlement. The trustees invite the public to view and comment on the Draft RP/EA from October 3 to November 2, 2022 at https://fws.gov/project/dover-chemical-corp-nrdar-sugar-creek-ohio.

Patricia McKenna,
Assistant Section Chief, Environmental Enforcement Section, Environment and Natural Resources Division.

[FR Doc. 2022-21996 Filed 10-7-22; 8:45 am]

BILLING CODE 4410-CW-P